DEPARTMENT OF THE INTERIOR

Bureau of Land Management

[AK-910-06-1610-DQ-086L]

Notice of Availability of the Ring of Fire Proposed Resource Management Plan and Final Environmental Impact Statement

AGENCY: Anchorage Field Office, Bureau of Land Management, Interior.

ACTION: Notice of Availability.

SUMMARY: In accordance with the National Environmental Policy Act of 1969 (NEPA 42 U.S.C. 4321 et seq.) and the Federal Land Policy and Management Act of 1976 (FLPMA 43 U.S.C. 1701 et seq.), the Bureau of Land Management (BLM) has prepared the Ring of Fire Proposed Resource Management Plan/Final Environmental Impact Statement (RMP/EIS) for public lands and resources administered by the Bureau of Land Management's Anchorage Field Office.

DATES: The BLM Planning Regulations (43 CFR 1610.5-2) state that any person who participated in the planning process, and has an interest which is or may be adversely affected, may protest BLM's approval or amendment of an RMP. You must file a protest within 30 days of the date that the Environmental Protection Agency publishes their Notice of Availability in the Federal Register. Instructions for filing a protest are described in the Dear Reader letter of the Ring of Fire Proposed RMP/Final EIS and in the Supplementary Information section of this Notice.

FOR FURTHER INFORMATION CONTACT: Robert Lloyd, Anchorage Field Office, 6881 Abbott Loop Road, Anchorage, AK 99507, (907) 267-1246, akrofrmp@blm.gov.

SUPPLEMENTARY INFORMATION: The Ring of Fire planning area covers 1.3 million acres of BLM-administered lands. The Ring of Fire Proposed RMP/Final EIS focuses on the principles of multiple use and sustained yield as prescribed by Section 202 of FLPMA. The Ring of Fire Proposed RMP/Final EIS considers and analyzes four alternatives, including a No Action and a Proposed Action. The alternatives provide for an array of variable levels of commodity production and resource protection. The alternatives were developed based on extensive public scoping and involvement.

There are five main issues addressed through this planning process. The Lands and Realty section addresses the need to determine the appropriate mix of lands and realty actions needed to provide a balance between land use and resource protection. The Proposed RMP/Final EIS recommends the revocation of the existing Alaska Native Claims Settlement Act (ANCSA) Section (d)(1) withdrawals making all unselected lands (241,000 acres) and those lands which may have the ANCSA and State selections relinquished (387,000 acres) potentially available for mineral entry and development. The Lands and Realty section also identifies several small parcels which have been determined suitable for disposal through public sale. The Leasable and Locatable Minerals sections determine which areas should be made available for mineral exploration and development. The Off-Highway Vehicle (OHV) section addresses management of BLM's lands and access trails for various purposes, including recreation, commercial uses, subsistence activities and the general use of public lands, while protecting natural and cultural resources found within the planning area. The Recreation section examines how recreation should be managed to provide a diversity of experience on BLM lands within the planning area. The document analyzes what measures are necessary and what level of commercial use is appropriate, to ensure that a diversity of recreational opportunities is maintained.

Public involvement for this effort included 10 public scoping meetings, meetings with ANCSA corporations and Tribal entities; meetings and briefings with agencies, elected community officials, and planning department staff; and follow-up public hearings. Continuous involvement by the State of Alaska has taken place throughout the planning process through a joint BLM-State position providing a liaison between the State and BLM.

All comments received on the plan were systematically evaluated. Chapter 6 of the Proposed RMP/Final EIS outlines these comments and BLM's response to them.

The Proposed RMP/Final EIS will assist BLM in meeting its mandate of multiple use and sustained yield and recommends the designation of two Special Recreation Management Areas (SRMA) and one Area of Critical Environmental Concern (ACEC). The first SRMA is located in the Haines Block where the use of helicopters, in support of recreational activities is increasing. In developing the SRMA plan for the Haines area, with additional community involvement, BLM will gain greater understanding of the recreation use impacts on the resources, including wildlife, and on the community. The second SRMA being recommended is located in the Knik River area north of Anchorage. This recommendation is based on the past and current recreation uses of the lands and the increasing conflict between user groups, the surrounding communities, and the potential damage to the resources.

BLM analyzed 14 areas nominated as ACECs, including those nominated as Research Natural Areas (RNAs) or Outstanding Natural Areas (ONAs), which are types of ACECs. To be considered for designation as an ACEC, an area must have a resource value that is both relevant and important. The Southern Neacola Block met this criteria, and was carried forward for detailed analysis. The remaining 13 areas were not carried forward. These included, the Haines Area and the Knik River Valley, which were determined to have resource values that require additional analysis in the context of potential designation as Special Recreation Management Areas.

The proposed Neacola ACEC is a contiguous block of BLM-administered land (229,000 acres) located in the Neacola Mountains in western Cook Inlet. The Visual Resource Class will be Class II, the Off Highway Vehicle Classification will be “Limited,” and the Recreation Opportunity Spectrum will be managed to maintain the existing classification of “Primitive.” BLM will work with the land managers of the surrounding lands and recreation users to develop additional management strategies for this area.

Copies of the Ring of Fire Proposed RMP/Final EIS have been sent to the affected Federal, State and local governmental agencies, as well as interested parties. Copies of the Proposed RMP/Final EIS are available for public inspection at the Anchorage Field Office, 6881 Abbott Loop Road, Anchorage, Alaska, during normal business hours from 7:30 a.m. to 4 p.m. Monday through Friday, except holidays. Copies of the Proposed RMP/Final EIS have been sent to individuals, agencies and groups as requested or as required by regulation or policy. Interested persons may also view the Proposed RMP/Final EIS on the Internet at www.blm.gov/ak.

Instructions for filing a protest with the Director of the BLM regarding the Proposed RMP/Final EIS may be found in 43 CFR 1610.5-2. A protest may only raise those issues that were submitted for the record during the planning process. E-mail and faxed protests will not be accepted as valid protests unless the protesting party also provides the original letter by either regular or overnight mail postmarked by the close of the protest period. Under these conditions, BLM will consider the e-mail or faxed copy advance notice and it will receive full consideration. If you wish to provide BLM such advance consideration, please direct faxed protests to the attention of the BLM Protest Coordinator at (202) 452-5112, and e-mails to Brenda_Hudgens-Williams@blm.gov. Please direct the follow-up letter to the address provided below. The protest must contain:

a. The name, mailing address, telephone number, and interest of the person filing the protest.

b. A statement of the part or parts of the plan or issues being protested.

c. A copy of all documents addressing the issue(s) that the protesting party submitted during the planning process or a statement of the date they were discussed for the record.

d. A concise statement explaining why the protestor believes that the State Director's decision is wrong.

All protests must be in writing and mailed to one of the following addresses:

Regular Mail: Director (210), Attn: Brenda Williams, P.O. Box 66538, Washington, DC 20035.

Overnight Mail: Director (210), Attn: Brenda Williams, 1620 L Street NW, Suite 1075, Washington, DC 20036.

Individual respondents may request confidentiality. If you wish to withhold your name or street address from public review or from disclosure under the Freedom of Information Act, you must state this prominently at the beginning of your protest. Such requests will be honored to the extent allowed by law. All submissions from organizations, businesses, and from individuals identifying themselves as representatives or officials of organizations or businesses will be available for public inspection in their entirety. The Director will promptly render a decision on the protest. The decision will be in writing and will be sent to the protesting party by Certified Mail-Return Receipt Requested. The Decision of the Director is the final Decision of the Department of the Interior.

Dated: June 21, 2006.
Julia S. Dougan,
Acting State Director.

[FR Doc. E6-14209 Filed 8-24-06; 8:45 am]

BILLING CODE 4310-JA-P